DEPARTMENT OF ENERGY

Office of Energy Efficiency and Renewable Energy

Golden Field Office; Hydrogen Program

AGENCY: The Department of Energy (DOE).

ACTION: Supplemental Announcement (02) to the Fiscal Year 2001 Broad Based Solicitation for Submission of Financial Assistance Applications Involving Research, Development, and Demonstration for the Office of Energy Efficiency and Renewable Energy, DE-PS36-01GO90000.

SUMMARY: The Hydrogen Program of the Department of Energy (DOE) Office of Energy Efficiency and Renewable Energy (EERE) is issuing a Supplemental Announcement to the EERE Fiscal Year 2001 Broad Based Solicitation for Submission of Financial Assistance Applications Involving Research, Development and Demonstration, DE-PS36-01GO90000, dated November 27, 2000. Under this Supplemental Announcement 02, titled “Hydrogen Research and Development,” DOE is seeking research and development applications for activities that will lead to the implementation of hydrogen technologies related to certain approaches for production and storage. The goal of the production activity is to produce hydrogen from renewable energy sources using certain biomass or photoelectrochemistry approaches. The goal of the storage activity is to develop an innovative concept or material using approaches with non-transition metal complex hydrides and purified carbon nanotubes. DOE is proposing to fund this effort under the provisions of the Hydrogen Future Act of 1996. DOE anticipates selecting multiple Applications for negotiation of awards, with first-year DOE funding limits per award as described in the Supplemental Announcement. The awards will be Cooperative Agreements with a term of up to three years. A cost share contribution from an Applicant is required for an Application to be considered for award. Subject to availability, the total Fiscal Year 2001 DOE funding will be approximately $550,000, with an additional $1,000,000 anticipated in Fiscal Year 2002 and an additional $2,000,000 anticipated in Fiscal Year 2003. All information regarding the Supplemental Announcement will be posted on the DOE Golden Field Office Home page at the address identified below.

DATES: DOE expects to issue the Supplemental Announcement around mid-January, 2001. The closing date of the Supplemental Announcement is March 7, 2001.

ADDRESSES: The Supplemental Announcement will be posted on the DOE Golden Field Office Home Page at http://www.golden.doe.gov/businessopportunities.html under “Solicitations”.

FOR FURTHER INFORMATION CONTACT: Shirley Johnson, Contract Specialist, at Facsimile 303-275-4788 or e-mail Shirley_Johnson@nrel.gov.

Issued in Golden, Colorado, on January 12, 2001.
Jerry L. Zimmer,
Procurement Director, Golden Field Office.

[FR Doc. 01-2471 Filed 1-26-01; 8:45 am]

BILLING CODE 6450-01-M